DEPARTMENT OF ENERGY

Federal Energy Regulatory Commission

Combined Notice of Filings #1

November 24, 2008.

Take notice that the Commission received the following electric corporate filings:

Docket Numbers: EC08-78-000.

Applicants: Duke Energy Ohio, Inc., Cinergy Corp., Cinergy Power Investments, Inc., Generating Facility LLCs.

Description: Status Report and Amendment to Application of Cinergy Corporation, et al.

Filed Date: 11/17/2008.

Accession Number: 20081117-5153.

Comment Date: 5 p.m. Eastern Time on Monday, December 8, 2008.

Docket Numbers: EC09-24-000.

Applicants: Noble Altona Windpark, LLC, Noble Chateaugay Windpark, LLC, Noble Wethersfield Windpark, LLC, Noble Environmental Power 2008 Hold Co., EFS Noble II, LLC, GE Capital Markets, Inc.

Description: Application of Noble Altona Windpark, LLC, et al. for Authorization of Transaction, Request for Waivers of Filing Requirements, Confidential Treatment of Transaction Documents and Request for Expedited Consideration.

Filed Date: 11/21/2008.

Accession Number: 20081121-5144.

Comment Date: 5 p.m. Eastern Time on Friday, December 12, 2008.

Docket Numbers: EC09-25-000.

Applicants: MidAmerican Energy Company, Constellation Power Source Generation LLC, Safe Harbor Water Power Corp.

Description: Joint Application of MidAmerican Energy Holdings Company, et al. for Authorization Under Section 203 of the FPA, Request for Waiver of Certain Commission Requirements, and Requests for Confidential Treatment and Expedited Treatment.

Filed Date: 11/21/2008.

Accession Number: 20081121-5146.

Comment Date: 5 p.m. Eastern Time on Friday, December 12, 2008.

Take notice that the Commission received the following electric rate filings:

Docket Numbers: ER98-4159-015; ER04-268-012; ER06-398-009; ER06-399-009; ER07-157-005.

Applicants: Duquesne Light Company; Duquesne Power, LLC; Duquesne Keystone, LLC; Duquesne Conemaugh, LLC; Macquarie Cook Power, Inc.

Description: Notice of Change in Status of Duquesne Light Company, et al.

Filed Date: 11/21/2008.

Accession Number: 20081121-5081.

Comment Date: 5 p.m. Eastern Time on Friday, December 12, 2008.

Docket Numbers: ER01-1403-009; ER01-2968-010; ER01-845-008; ER04-366-007; ER05-1122-006; ER06-1443-005; ER08-107-003.

Applicants: FirstEnergy Operating Companies; FirstEnergy Solutions Corp.; FirstEnergy Generation Corporation; Jersey Central Power & Light Co.; FirstEnergy Nuclear Generation Corporation; Pennsylvania Power Company; FirstEnergy Generation Mansfield Unit 1.

Description: Report of FirstEnergy Service Company In Compliance With Order Issued on October 17, 2008.

Filed Date: 11/17/2008.

Accession Number: 20081117-5189.

Comment Date: 5 p.m. Eastern Time on Monday, December 8, 2008.

Docket Numbers: ER01-1529-012; ER01-1527-012.

Applicants: Nevada Power Company, Sierra Pacific Power Company.

Description: Nevada Power Co. & Sierra Pacific Power Co. submit notice of non-material change in status.

Filed Date: 11/19/2008.

Accession Number: 20081124-0314.

Comment Date: 5 p.m. Eastern Time on Wednesday, December 10, 2008.

Docket Numbers: ER06-635-004; ER06-634-004; ER95-1007-023.

Applicants: Edgecombe Genco, LLC; Spruance Genco, LLC.

Description: Edgecombe Genco, LLC et al. affirms that they have not erected barriers to entry in the relevant market and will not erect barriers to entry in the relevant market.

Filed Date: 11/19/2008.

Accession Number: 20081124-0206.

Comment Date: 5 p.m. Eastern Time on Wednesday, December 10, 2008.

Docket Numbers: ER06-758-005.

Applicants: Chambers Cogeneration, Limited Partnership.

Description: Chambers Cogeneration Limited Partnership affirms that they have not erected barriers to entry in the relevant market and will not erect barriers to entry in the relevant market.

Filed Date: 11/19/2008.

Accession Number: 20081124-0207.

Comment Date: 5 p.m. Eastern Time on Wednesday, December 10, 2008.

Docket Numbers: ER07-1372-013.

Applicants: Midwest Independent Transmission System.

Description: Readiness Recertification in compliance with the Commission's February 25, 2008 Order.

Filed Date: 11/21/2008.

Accession Number: 20081121-5166.

Comment Date: 5 p.m. Eastern Time on Monday, December 1, 2008.

Docket Numbers: ER08-394-005.

Applicants: Midwest Independent Transmission System.

Description: Midwest Independent Transmission System Operator, Inc. submits proposed revisions to its Open Access Transmission and Energy Markets Tariff.

Filed Date: 11/19/2008.

Accession Number: 20081120-0130.

Comment Date: 5 p.m. Eastern Time on Wednesday, December 10, 2008.

Docket Numbers: ER08-394-006.

Applicants: Midwest Independent Transmission System.

Description: Midwest Independent Transmission System Operator, Inc. submits proposed revisions to its Open Access Transmission and Energy Markets Tariff to comply with FERC's 10/20/08 Order.

Filed Date: 11/19/2008.

Accession Number: 20081120-0131.

Comment Date: 5 p.m. Eastern Time on Wednesday, December 10, 2008.

Docket Numbers: ER08-394-007.

Applicants: Midwest Independent Transmission System.

Description: Midwest Independent Transmission System Operator, Inc. submits proposed revisions to its Open Access Transmission and Energy Markets Tariff to comply with FERC's 10/20/08 order under ER08-394.

Filed Date: 11/19/2008.

Accession Number: 20081120-0132.

Comment Date: 5 p.m. Eastern Time on Wednesday, December 10, 2008.

Docket Numbers: ER09-215-001.

Applicants: Pittsfield Generating Company, L.P.

Description: Pittsfield Generating Company, LP submits the Commission proposed revisions to its FERC Electric Original Volume 1 to reflect a change in Pittsfield's Agent under the tariff to become effective 1/1/09.

Filed Date: 11/18/2008.

Accession Number: 20081121-0162.

Comment Date: 5 p.m. Eastern Time on Monday, December 1, 2008.

Docket Numbers: ER09-309-000.

Applicants: New York Independent System Operator, Inc.

Description: New York Independent System Operator, Inc. et al. submits executed standard large generator interconnection agreement among the NYISO, NYSEG, and the Developer, the Sheldon Energy LLC.

Filed Date: 11/18/2008.

Accession Number: 20081121-0160.

Comment Date: 5 p.m. Eastern Time on Tuesday, December 9, 2008.

Docket Numbers: ER09-310-000.

Applicants: Midwest Independent Transmission System.

Description: Midwest Independent Transmission System Operator, Inc. et al. submits proposed revisions to Section 5.2 and Appendix B of the Congestion Management Process of their Joint Operating Agreements.

Filed Date: 11/18/2008.

Accession Number: 20081121-0163.

Comment Date: 5 p.m. Eastern Time on Tuesday, December 9, 2008.

Docket Numbers: ER09-311-000.

Applicants: LANXESS Energy LLC.

Description: LANXESS Energy LLC submits Petition for Acceptance of Initial Tariff, Waivers, and Blanket Authority, FERC Electric Tariff, Original Volume 1.

Filed Date: 11/21/2008.

Accession Number: 20081124-0160.

Comment Date: 5 p.m. Eastern Time on Friday, December 12, 2008.

Docket Numbers: ER09-312-000.

Applicants: LANXESS Corporation.

Description: LANXESS Corporation submits a Petition for Acceptance of Initial Tariff, Waivers, and Blanket Authority, FERC Electric Tariff, Original Volume 1.

Filed Date: 11/21/2008.

Accession Number: 20081124-0161.

Comment Date: 5 p.m. Eastern Time on Friday, December 12, 2008.

Docket Numbers: ER09-313-000.

Applicants: Niagara Mohawk Power Corporation.

Description: Niagara Mohawk Power Corp submits executed cost sharing agreement with Nine Mile Point Nuclear Station, LLC et al.

Filed Date: 11/19/2008.

Accession Number: 20081120-0128.

Comment Date: 5 p.m. Eastern Time on Wednesday, December 10, 2008.

Docket Numbers: ER09-314-000.

Applicants: Direct Energy Business, LLC.

Description: Direct Energy Business, LLC submits notice of succession to notify FERC of a corporate name change.

Filed Date: 11/19/2008.

Accession Number: 20081120-0129.

Comment Date: 5 p.m. Eastern Time on Wednesday, December 10, 2008.

Docket Numbers: ER09-315-000.

Applicants: Consolidated Edison Co. of New York, Inc.

Description: Consolidated Edison Co. of New York, Inc. submits notices of Cancellation for power sales service agreements.

Filed Date: 11/19/2008.

Accession Number: 20081120-0135.

Comment Date: 5 p.m. Eastern Time on Wednesday, December 10, 2008.

Docket Numbers: ER09-316-000.

Applicants: Consolidated Edison Co. of New York, Inc.

Description: Consolidated Edison Co. of New York, Inc. submits Notices of Cancellation for service agreements for the Wholesale Sale of Electricity etc.

Filed Date: 11/19/2008.

Accession Number: 20081120-0134.

Comment Date: 5 p.m. Eastern Time on Wednesday, December 10, 2008.

Docket Numbers: ER09-317-000.

Applicants: MidAmerican Energy Company.

Description: MidAmerican Energy Co. submits First Revised Sheet No. 2 to FERC Electric Tariff, Second Revised Volume No. 8, to be effective 12/29/08.

Filed Date: 11/19/2008.

Accession Number: 20081120-0133.

Comment Date: 5 p.m. Eastern Time on Wednesday, December 10, 2008.

Docket Numbers: ER09-320-000.

Applicants: PJM Interconnection, L.L.C.

Description: PJM Interconnection, LLC submits an executed interconnection service with WM Renewable Energy, LLC et al.

Filed Date: 11/21/2008.

Accession Number: 20081124-0159.

Comment Date: 5 p.m. Eastern Time on Friday, December 12, 2008.

Docket Numbers: ER09-321-000.

Applicants: California Independent System Operator C.

Description: California Independent System Operator Corporation submits an executed Amended and Restated Metered Subsystem Agreement with the City of Vernon, California.

Filed Date: 11/20/2008.

Accession Number: 20081124-0317.

Comment Date: 5 p.m. Eastern Time on Thursday, December 11, 2008.

Take notice that the Commission received the following electric securities filings:

Docket Numbers: ES09-11-000.

Applicants: Southwestern Electric Power Company.

Description: Application Under Section 204 of the Federal Power Act to Issue Securities.

Filed Date: 11/20/2008.

Accession Number: 20081120-5111.

Comment Date: 5 p.m. Eastern Time on Thursday, December 11, 2008.

Take notice that the Commission received the following open access transmission tariff filings:

Docket Numbers: OA08-122-001.

Applicants: Tampa Electric Company.

Description: Tampa Electric Co submits Substitute Revised Sheet No. 23 to FERC Electric Tariff, Third Revised Volume No. 4 to be effective 7/23/08.

Filed Date: 11/19/2008.

Accession Number: 20081120-0142.

Comment Date: 5 p.m. Eastern Time on Wednesday, December 10, 2008.

Docket Numbers: OA08-127-000.

Applicants: Avista Corporation.

Description: Avista Corporation's Errata to the September 5, 2008 Compliance Filing.

Filed Date: 11/20/2008.

Accession Number: 20081120-5134.

Comment Date: 5 p.m. Eastern Time on Thursday, December 11, 2008.

Docket Numbers: OA08-93-002.

Applicants: South Carolina Electric & Gas Company.

Description: Order No. 890-A Compliance Filing.

Filed Date: 11/20/2008.

Accession Number: 20081120-5113.

Comment Date: 5 p.m. Eastern Time on Thursday, December 11, 2008.

Docket Numbers: OA08-95-002.

Applicants: Alcoa Power Generating Inc.—Yadkin.

Description: Yadkin Division of Alcoa Power Generating Inc submits First Revised Sheet 286 et al. to FERC Electric Tariff, First Revised Volume 3 for Schedules 4 and 9 of its Open Access Transmission Tariff in compliance with Order 890 & 890-A.

Filed Date: 11/20/2008.

Accession Number: 20081124-0157.

Comment Date: 5 p.m. Eastern Time on Thursday, December 11, 2008.

Take notice that the Commission received the following public utility holding company filings:

Docket Numbers: PH09-4-000.

Applicants: Texas Transmission Holdings Corporation, Texas Transmission Investment LLC.

Description: FERC 65 Waiver Notification of Texas Transmission Holdings Corporation and Texas Transmission Investment LLC.

Filed Date: 11/21/2008.

Accession Number: 20081121-5112.

Comment Date: 5 p.m. Eastern Time on Friday, December 12, 2008.

Take notice that the Commission received the following electric reliability filings:

Docket Numbers: RR06-1-018; RR07-7-006.

Applicants: North American Electric Reliability Corp.

Description: Further Status Report of the North American Electric Reliability Corporation and Western Electricity Coordinating Council in Response to Paragraph 226 of March 21 2008 Commission Order under RR06-1, et al.

Filed Date: 11/21/2008.

Accession Number: 20081121-5110.

Comment Date: 5 p.m. Eastern Time on Thursday, December 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E8-28561 Filed 12-1-08; 8:45 am]

BILLING CODE 6717-01-P